DEPARTMENT OF JUSTICE

Notice of Lodging of Consent Decree Under the Comprehensive Environmental Response, Compensation, and Liability Act

Notice is hereby given that on January 11, 2008, a proposed Consent Decree in United States v. The Housing Authority of the City of Dallas, Texas, Civil Action No. 3:08CV-0051-D, was lodged with the United States District Court for the Northern District of Texas.

This settlement relates to Operable Unit 2 of the RSR Corporation Superfund Site located in the western part of the City of Dallas, Dallas County, Texas (“the Site”).

The proposed Consent Decree settles an action brought under section 122 of the Comprehensive Environmental Response, Compensation, and Liability Act (“CERCLA”), 42 U.S.C. 9622, seeking, inter alia, reimbursement of certain response and oversight costs incurred pursuant to an Administrative Order on Consent (“AOC”) entered into between the Housing Authority of the City of Dallas, Texas (the “Dallas Housing Authority”) and the United States Environmental Protection Agency (“EPA”). Under the proposed Consent Decree, the Dallas Housing Authority will reimburse the United States for $233,178.94 in past response costs incurred pursuant to the AOC.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. The Dallas Housing Authority, D.J. Ref. 90-11-3-1613/4.

The Consent Decree may be examined at the Office of the United States Attorney, Northern District of Texas, 1100 Commerce Street, Suite 300, Dallas, Texas 75242-1699, and at U.S. EPA Region 6, 1445 Ross Avenue, Dallas, Texas 75202. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy by mail from the Consent Decree Library, please enclose a check in the amount of $17.50 (25 cents per page reproduction cost) for the Consent Decree payable to the U.S. Treasury. In requesting a copy of the Consent Decree exclusive of exhibits, please enclose a check in the amount of $4 (25 cents per page reproduction cost) payable to the U.S. Treasury.

Thomas A. Mariani, Jr.,
Assistant Chief, Environmental Enforcement Section, Environment and Natural Resources Division.

[FR Doc. 08-270 Filed 1-24-08; 8:45 am]

BILLING CODE 4410-15-M